ENVIRONMENTAL PROTECTION AGENCY

40 CFR Part 300

[FRL-7974-1]

National Oil and Hazardous Substances Pollution Contingency Plan; National Priorities List

AGENCY: Environmental Protection Agency.

ACTION: Deletion of the Jones Sanitation Superfund Site from the National Priorities List.

SUMMARY: The Environmental Protection Agency (EPA), Region 2 office, announces the deletion of the Jones Sanitation Superfund Site (Site), located in Hyde Park, New York, from the National Priorities List (NPL).

The NPL is appendix B to the National Oil and Hazardous Substances Pollution Contingency Plan (NCP), 40 CFR part 300, which EPA promulgated pursuant to section 105 of the Comprehensive Environmental Response, Compensation, and Liability Act (CERCLA) of 1980, as amended. EPA and the State of New York, through the New York State Department of Environmental Conservation (NYSDEC), have determined that potentially responsible parties have implemented all appropriate response actions required. Moreover, EPA and NYSDEC have determined that with proper monitoring, operation and maintenance, this Site poses no significant threat to public health or the environment.

EFFECTIVE DATE: September 23, 2005.

FOR FURTHER INFORMATION CONTACT: Ms. Isabel Rodrigues, Remedial Project Manager, Emergency and Remedial Response Division, U.S. Environmental Protection Agency, Region 2, 290 Broadway, 20th Floor, New York, New York 10007-1866, phone (212) 637-4248; fax: (212) 637-4284; e-mail:Rodrigues.Isabel@EPA.GOV.

SUPPLEMENTARY INFORMATION: The site to be deleted from the NPL is: Jones Sanitation Superfund Site, Town of Hyde Park, Dutchess County, New York. A direct final deletion and a notice of intent to delete of the Site were published in the Federal Register on July 7, 2005 ( 70 FR 30217 and 39180 to 39182). In these notices, EPA requested public comment on the proposed NPL deletion of the Site until August 8, 2005. During the 30-day comment period, EPA received correspondence offering critical comments. As a result of the critical comments, EPA published a Notice of Withdrawal of Direct Final Deletion of the Site on September 1, 2005. EPA evaluated the comments received and prepared a Responsiveness Summary and has concluded after a review of the comments that the Site does not pose a significant threat to public health or the environment. Copies of the Responsiveness Summary are available at the following repositories: U.S. Environmental Protection Agency, Superfund Records Center, 290 Broadway, Room 1828, New York, New York 10007-1866, (212) 637-4308; and, Hyde Park Free Public Library, 2 Main Street, Hyde Park, NY 12538.

EPA identifies sites that appear to present a significant risk to public health or the environment, and it maintains the NPL as the active list of these sites. As described in 40 CFR 300.425(e)(3), any site deleted from the NPL remains eligible for remedial action in the unlikely event that conditions at a site warrant such action. Deletion of a site from the NPL does not affect the liability of potentially responsible parties nor does it impede EPA efforts to recover costs associated with response efforts.

List of Subjects in 40 CFR Part 300

Environmental protection, Air pollution control, Chemicals, Hazardous substances, Hazardous waste, Intergovernmental relations, Penalties, Reporting and recordkeeping requirements, Superfund, Water pollution control, Water supply.

Dated: September 9, 2005.
Alan J. Steinberg,
Regional Administrator, Region II.

Authority

For the reasons set out in the preamble Part 300 Title 40 of Chapter I of the Code of Federal Regulations is amended as follows:

PART 300—[AMENDED]

1. The authority citation for Part 300 continues to read as follows:

Authority: 33 U.S.C. 1321(c)(2); 42 U.S.C. 9601-9657; E.O. 12777, 56 FR 54757, 3 CFR, 1991 Comp., p. 351; E.O.12580, 52 FR 2923, 3 CFR, 1987 Comp., p. 193.

Appendix B—[Amended]

2. Table 1 of Appendix B to Part 300 is amended under New York (NY) by removing the site name “Jones Sanitation” and the corresponding city/county designation “Hyde Park/Dutchess County.”

[FR Doc. 05-19055 Filed 9-22-05; 8:45 am]

BILLING CODE 6560-50-P